ENVIRONMENTAL PROTECTION AGENCY

[ER-FRL-6694-7]

Environmental Impact Statements and Regulations; Availability of EPA Comments

Availability of EPA comments prepared pursuant to the Environmental Review Process (ERP), under section 309 of the Clean Air Act and Section 102(2)(c) of the National Environmental Policy Act as amended. Requests for copies of EPA comments can be directed to the Office of Federal Activities at 202-564-7167.

An explanation of the ratings assigned to draft environmental impact statements (EISs) was published in FR dated April 6, 2007 (72 FR 17156).

Draft EISs

EIS No. 20070388, ERP No. D-FHW-F40440-00, Blue Water Bridge Plaza Study and Improve to the I-94/1-69 Corridor, To Provide Safe, Efficient and Secure Movement of People and Goods across the Canadian—U.S. Border, Port Huron Area, St. Clair County, MI.

Summary: EPA expressed environmental concerns about impacts to air quality and further recommends the creation and implementation of a sustainable building implementation plan. Rating EC2.

EIS No. 20070404, ERP No. D-NRC-H06006-KS, GENERIC—License Renewal of Nuclear Plants Regarding Wolf Creek Generating Station, (WCGS) Unit 1. Supplement 32 to NUREG 1437, Implementation, Coffey Country, KS.

Summary: EPA expressed environmental concerns about the potential ecological effects of increased concentrations of tritium in Coffee County Lake and the potential tritium contamination of groundwater resources. Rating EC2.

EIS No. 20070437, ERP No. D-NPS-K65334-HI, PROGRAMMATIC EIS—Ala Kahakai National Historic Trail Comprehensive Management Plan, To Provide Long-Term Direction for Natural and Cultural Resource, Island of Hawaii, HI.

Summary: EPA does not object to the proposed project. Rating LO.

EIS No. 20070473, ERP No. D-FHW-J40179-MT, US-212 Reconstruction Project, from Rockvale to Laurel, Proposes to Improve Safety for Local and Regional Traffic Area, Yellowstone and Carbon Counties, MT.

Summary: EPA expressed environmental concerns about impacts to water quality, wetlands, farmland, wildlife habitat, and wildlife movement. EPA recommends that features be designed into the new highway, such as bridges and culverts that facilitate safe wildlife passage under the roadway to allow wildlife movement to and from the Yellowstone River riparian area. Rating EC2.

EIS No. 20070383, ERP No. DA-BLM-J65418-UT, Price Field Resource Management Plan, Supplemental Information for Non-Wilderness Study Area (WSA) Lands with Wilderness Characteristics. Implementation, Carbon and Emery Counties, UT.

Summary: EPA expressed environmental concerns about potential impacts or further decline in function of already impaired lands in Areas of Critical Environmental Concern which overlap non-WSA lands and along suitable river segments for possible wild scenic or recreational designation within non-WSA lands unless management prescriptions to protect wilderness characteristics are applied. Rating EC2.

Final EISs

EIS No. 20070423, ERP No. F-AFS-K61165-00, Great Basin Creek South Rangeland Management Projects, Management of 12 Livestock Grazing Allotments, Bridgeport Ranger District, Humboldt-Toiyabe National Forest, Lyon and Mineral Counties, NV and Mono County, CA.

Summary: EPA continues to have environmental concerns about potential and continued impacts to rangelands and with the lack of specificity of the analyses, monitoring, and mitigation needs discussed in the final EIS. EPA recommends that the ROD include a schedule for the development of revised allotment management plans.

EIS No. 20070427, ERP No. F-AFS-K65316-CA, SPI Road Project, Construction of an Access Road Across National Forest Land, Special Use Permit, Six Rivers National Forest, Lower Trinity Ranger District, Trinity County, CA.

Summary: EPA continues to have environmental concerns about potential cumulative impacts to air quality, water quality, hydrology, fish and wildlife in conjunction with the SPI Timber Harvest Plan and effects of project implementation on proposed the Northern California Coastal Wild Heritage Wilderness Act.

EIS No. 20070466, ERP No. F-FHW-F40436-WI, TIER 1—FEIS—United States Highway 8 Project, Construction from Wis 35(N)to USH 53, Selected the Preferred Segment Alternative, Funding and Right-of-Way Permit, Polk and Barron Counties, WI.

Summary: EPA does not object to the Tier 1 stage of the proposed project. EPA intends to provide further input in subsequent NEPA analyses done on the project corridor.

EIS No. 20070485, ERP No. F-AFS-K65297-CA, Kirkwood Mountain Resort, Proposed 2003 Mountain Master Development Plan, Implementation, Eldorado National Forest, Amador, Alpine and EL Dorado Counties, CA.

Summary: EPA continues to have environmental concerns about potential adverse impacts to water quality and habitat for the yellow-legged frog. EPA recommends consideration of Alternative 3-Limited Emigrant Valley Development, because it minimizes cumulative watershed effects and avoids impacts to Mountain yellow-legged frog caused by the expansion of recreation into known habitat.

EIS No. 20070491, ERP No. F-AFS-J65472-CO, Bull Mountain Natural Gas Pipeline, Construct, Operate and Maintain Natural Gas Pipeline, Issuance of Right-of-Way Grant and Temporary Use Area Permits, Gunnison, Delta, Mesa, Garfield Counties, CO.

Summary: The final EIS addressed EPA's request for information on impacts to wetlands. However, EPA continues to have environmental concerns about the potential environmental impacts to fens, riparian resources, upland areas, and air quality, including project emissions. The ROD should consider adding more detailed information on the monitoring and mitigation measures.

EIS No. 20070493, ERP No. F-AFS-L65533-ID, Sun Valley Resort (Bald Mountain) 2005 Master Plan—Phase I Project, Implementation, Special-Use-Permits, Sawtooth National Forest, Blaine County, ID.

Summary: EPA's concerns were addressed by selection of a modified Alternative 3 as the Preferred Alternative. EPA provided recommendations regarding the Cumulative Effects Analysis and Best Management Practices for water conservation.

Dated: December 31, 2007.
Clifford Rader,
Environmental Protection Specialist, Office of Federal Activities.

[FR Doc. E7-25637 Filed 1-3-08; 8:45 am]

BILLING CODE 6560-50-P